FEDERAL EMERGENCY MANAGEMENT AGENCY

Cerro Grande Fire Assistance

AGENCY: Office of Cerro Grande Fire Claims (OCGFC), Federal Emergency Management Agency (FEMA).

ACTION: Notice of deadline for reopening a claim.

SUMMARY: This notice establishes the deadline by which claimants must submit requests to reopen closed claims under the Cerro Grande Fire Assistance Act.

Dates for Reopening Claims: The deadline to request that FEMA reopen a claim is August 28, 2002, except for requests to reopen a claim for mitigation assistance. The deadline to request that a claim be reopened for mitigation assistance is August 28, 2003.

All requests to reopen a claim for any reason other than to request mitigation assistance must meet the requirements of 44 CFR 295.34 and be received by OCGFC on or before August 28, 2002. A claim that has been approved for reopening after August 28, 2002 to receive mitigation assistance will not be reopened again.

Requests to reopen claims that have been administratively closed under 44 CFR 295.30(b) for failure to submit a proof of loss or under 44 CFR 295.32(b) for failure to timely submit a release and certification form must include a proof of loss or release and certification form, whichever is applicable, signed by all adult claimants who signed the notice of loss form, and OCGFC must receive the requests within the deadlines specified above. We expect a claimant to act in a timely fashion to provide all documentation required for OCGFC to evaluate a request for additional compensation or mitigation assistance. A claimant will have 30 days from the date the claim is reopened to submit all additional documentation required for OCGFC to evaluate the claim for additional compensation or mitigation assistance.

FOR FURTHER INFORMATION CONTACT: Robert Diaz, Staff Attorney, Office of Cerro Grande Fire Claims, P.O. Box 1480, Los Alamos, NM 87544, (505) 424-5900.

SUPPLEMENTARY INFORMATION: FEMA published final regulations in the Federal Register implementing the Cerro Grande Fire Assistance Act (Pub. L. 106-246) on March 21, 2001 as 44 CFR part 295. The rule sets out in 44 CFR 295.34(b) criteria for reopening a closed claim, authorizes the Director, Office of Cerro Grande Fire Claims to establish a deadline by which a claimant must submit a request to reopen, and provides that once FEMA establishes the deadline is established, FEMA must publish a notice in the Federal Register. This constitutes the Federal Register publication of that notice.

Under 44 CFR 295.34, “Reopening a Claim,” and implementing OCGFC policy, the Director may reopen a claim upon written request from the claimant if:

1. Claimant is eligible for mitigation under section 295.21(d)(3) or (h); or

2. Claimant has closed on the sale of real property not later than August 28, 2002 and desires to file a diminution claim under 44 CFR 295.21(e); or

3. Claimant's actual replacement costs for the destroyed home exceed those awarded under Option I “Other Costs” or Option II of the Home Replacement Policy; or

4.The Director determines that claimant has demonstrated good cause; or

5. Claimant has begun rebuilding a replacement home and has incurred additional, unforeseen alternative living expenses (ALE) (also known as loss of use compensation) beyond those for which advance ALE was paid; or

6. Claimant has discovered additional items of personal property that were not included in the original Proof of Loss.

7. Claimant has incurred or will incur costs associated with additional and/or specific site work under the Home Replacement Policy.

Requests to reopen claims that have been administratively closed under 44 CFR 295.30(b) for failure to submit a proof of loss or under 44 CFR 295.32(b) for failure to timely submit a release and certification form must include a proof of loss or release and certification form, whichever is applicable, signed by all adult claimants who signed the notice of loss form. OCGFC must receive the requests within the deadlines specified above.

We expect a claimant to act in a timely fashion to provide all documentation required for OCGFC to evaluate a request for additional compensation or mitigation assistance. A claimant will have 30 days from the date the claim is reopened to submit all additional documentation required for OCGFC to evaluate the claim for additional compensation or mitigation assistance.

Claimants who seek to reopen a claim for good cause must provide sufficiently detailed written information to permit OCGFC to evaluate whether good cause exists to reopen the claim. OCGFC has published and made available to the public policy guidelines explaining the criteria used to evaluate requests for reopen for good cause.

Such requests are determined on a case-by-case basis through application of the policy criteria.

Dated: June 21, 2002.
Mark D. Wallace,
Deputy General Counsel.

[FR Doc. 02-16423 Filed 6-28-02; 8:45 am]

BILLING CODE 6718-01-P